DEPARTMENT OF ENERGY

Federal Energy Regulatory Commission

Combined Notice of Filings

August 18, 2009.

Take notice that the Commission has received the following Natural Gas Pipeline Rate and Refund Report filings:

Docket Numbers: RP09-748-002.

Applicants: Quest Pipelines (KPC).

Description: Request for Extension of Time to Implement NAESB Version 1.8 of Quest Pipelines (KPC).

Filed Date: 08/04/2009.

Accession Number: 20090804-5118.

Comment Date: 5 p.m. Eastern Time on Friday, August 21, 2009.

Docket Numbers: RP96-200-230.

Applicants: CenterPoint Energy Gas Transmission Company.

Description: CenterPoint Energy Gas Transmission Company submits an amended negotiated rate agreement with EOG Resources, Inc.

Filed Date: 08/11/2009.

Accession Number: 20090812-0054.

Comment Date: 5 p.m. Eastern Time on Monday, August 24, 2009.

Docket Numbers: RP09-826-001.

Applicants: Central New York Oil and Gas Co., LLC.

Description: Central New York Oil and Gas Company, LLC submits Second Revised Sheet No 103A to its FERC Gas Tariff, Original Volume No 1.

Filed Date: 08/13/2009.

Accession Number: 20090814-0266.

Comment Date: 5 p.m. Eastern Time on Tuesday, August 25, 2009.

Docket Numbers: RP06-200-055.

Applicants: Rockies Express Pipeline LLC.

Description: Rockies Express Pipeline LLC submits Sixth Revised Sheet 8B et al. FERC Gas Tariff, Second Revised Volume 1, to be effective 8/15/09.

Filed Date: 08/14/2009.

Accession Number: 20090814-0261.

Comment Date: 5 p.m. Eastern Time on Wednesday, August 26, 2009.

Docket Numbers: RP09-672-001.

Applicants: Black Marlin Pipeline Company.

Description: Black Marlin Pipeline Company submits Sub. First Revised Sheet 201A.01 to its FERC Gas Tariff Original Volume 1, to be effective 8/1/09.

Filed Date: 08/14/2009.

Accession Number: 20090817-0061.

Comment Date: 5 p.m. Eastern Time on Wednesday, August 26, 2009.

Docket Numbers: RP09-673-001.

Applicants: Discovery Gas Transmission LLC.

Description: Discovery Gas Transmission submits Sub. Tenth Revised Sheet 196 to its FERC Gas Tariff, Original Volume 1, to be effective 8/1/09.

Filed Date: 08/14/2009.

Accession Number: 20090817-0062.

Comment Date: 5 p.m. Eastern Time on Wednesday, August 26, 2009.

Docket Numbers: RP09-750-001.

Applicants: MarkWest New Mexico, L.L.C.

Description: MarkWest New Mexico, LLC submits Sub. First Revised Sheet 155 of its FERC Gas Tariff Second Revised Volume 1, to be effective 8/1/09.

Filed Date: 08/14/2009.

Accession Number: 20090814-0263.

Comment Date: 5 p.m. Eastern Time on Wednesday, August 26, 2009.

Docket Numbers: RP09-772-001.

Applicants: MoGas Pipeline LLC.

Description: MoGas Pipeline LLC submits Sub. First Revised Sheet 84 of its FERC Gas Tariff. First Revised Volume 1.

Filed Date: 08/14/2009.

Accession Number: 20090814-0262.

Comment Date: 5 p.m. Eastern Time on Wednesday, August 26, 2009.

Docket Numbers: RP96-200-235.

Applicants: CenterPoint Energy Gas Transmission Co.

Description: CenterPoint Energy Gas Transmission Company submits amended negotiated rate agreement between CEGT and Marabou Midstream Services, LP.

Filed Date: 08/14/2009.

Accession Number: 20090814-0264.

Comment Date: 5 p.m. Eastern Time on Wednesday, August 26, 2009.

Docket Numbers: RP09-665-002.

Applicants: Mojave Pipeline Company.

Description: Mojave Pipeline Company submits Substitute Tenth Revised Sheet 202 et al. to FERC Gas Tariff, Second Revised Volume 1, to be effective 8/1/09.

Filed Date: 08/17/2009.

Accession Number: 20090818-0028.

Comment Date: 5 p.m. Eastern Time on Monday, August 31, 2009.

Docket Numbers: RP09-667-002.

Applicants: Young Gas Storage Company, Ltd.

Description: Young Gas Storage Company submits Substitute Fourteenth Revised Sheet 49 et al. to FERC Gas Tariff, Original Volume 1, to be effective 8/1/09.

Filed Date: 08/17/2009.

Accession Number: 20090818-0031.

Comment Date: 5 p.m. Eastern Time on Monday, August 31, 2009.

Docket Numbers: RP09-668-002.

Applicants: Wyoming Interstate Company, Ltd.

Description: Wyoming Interstate Company submits Substitute Fifth Revised Sheet 37C.01 et al. to FERC Gas Tariff, Second Revised Volume 2, to be effective 8/1/09.

Filed Date: 08/17/2009.

Accession Number: 20090818-0030.

Comment Date: 5 p.m. Eastern Time on Monday, August 31, 2009.

Docket Numbers: RP09-669-002.

Applicants: Colorado Interstate Gas Company.

Description: Colorado Interstate Gas Company submits Substitute Eighth Revised Sheet 231 et al. to FERC Gas Tariff, First Revised Volume 1, to be effective 8/1/09.

Filed Date: 08/17/2009.

Accession Number: 20090818-0029.

Comment Date: 5 p.m. Eastern Time on Monday, August 31, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-20358 Filed 8-24-09; 8:45 am]

BILLING CODE 6717-01-P